DEPARTMENT OF ENERGY

Federal Energy Regulatory Commission

[Docket No. CP02-204-002]

Transcontinental Gas Pipe Line Corporation; Notice of Filing

October 9, 2003.

Take notice that on October 2, 2003, Transcontinental Gas Pipe Line Corporation (Transco) tendered for filing as part of its FERC Gas Tariff, Third Revised Volume No. 1, Original Sheet No. 40Z.01, to be effective November 1, 2003.

Transco states that the purpose of the instant filing is to set forth under Rate Schedule FT the initial recourse reservation rate surcharge applicable to service provided on the Trenton Woodbury Expansion Project approved in Docket No. CP02-204-000.

Transco states that copies of the filing are being mailed to its affected customers and interested State Commissions.

Any person desiring to protest said filing should file a protest with the Federal Energy Regulatory Commission, 888 First Street, NE., Washington, DC 20426, in accordance with section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eLibrary (e-Filing) link.

Protest Date: October 17, 2003 .

Magalie R. Salas,
Secretary.

[FR Doc. E3-00254 Filed 11-14-03; 8:45 am]

BILLING CODE 6717-01-P